DEPARTMENT OF HEALTH AND HUMAN SERVICES

National Institutes of Health

National Center for Complementary and Alternative Medicine; Notice of Meeting

Pursuant to section 10(d) of the Federal Advisory Committee Act, as amended (5 U.S.C. Appendix 2), notice is hereby given of a meeting of the National Advisory Council for Complementary and Alternative Medicine.

The meeting will be open to the public as indicated below, with attendance limited to space available. Individuals who plan to attend and need special assistance, such as sign language interpretation or other reasonable accommodations, should notify the Contact Person listed below in advance of the meeting.

The meeting will be closed to the public in accordance with the provisions set forth in sections 552(c)(4) and 552(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Complementary and Alternative Medicine.

Date: November 21, 2001.¹

¹ Editorial Note: This document was received at the Office of the Federal Register on November 21, 2001.

Open: 12:08 p.m. to 12:15 p.m.

Agenda: Opening Remarks by the Director, NCCAM.

Place: National Institutes of Health, National Center for Complementary and Alternative Medicine, 6707 Democracy Blvd., Room 200, Bethesda, MD 20892, (Telephone Conference Call).

Closed: 12:15 pm to 2 pm.

Agenda: To review and evaluate grant applications.

Place: National Institutes of Health, National Center for Complementary and Alternative Medicine, 6707 Democracy Blvd., Room 200, Bethesda, MD 20892, (Telephone Conference Call).

Contact Person: Jane F. Kinsel, National Center for Complementary Medicine, National Institutes of Health, 9000 Rockville Pike, Building 31, Room 5B38, Bethesda, MD 20892, (301) 435-5042, kinselj@mail.nih.gov

This notice is being published less than 15 days prior to the meeting due to the timing limitations imposed by the review and funding cycle.

Information is also available on the Institute's/Center's homepage nccam.nih.gov/nccam/an/advisory/index.html, where an agenda and any additional information for the meeting will be posted when available.

Dated: November 16, 2001.
LaVerne Y. Stringfield,
Director, Office of Federal Advisory Committee Policy.

[FR Doc. 01-29533 Filed 11-27-01; 8:45 am]

BILLING CODE 4140-01-M